DEPARTMENT OF ENERGY

U.S. Energy Information Administration

Agency Information Collection Extension With Changes

AGENCY: U.S. Energy Information Administration (EIA), Department of Energy (DOE).

ACTION: Notice and request for comments.

SUMMARY: EIA invites public comments on the proposed collection of information, the Annual Manufacturing Energy Consumption Survey, Form EIA-847, as required under the Paperwork Reduction Act of 1995. This report will be part of EIA's comprehensive energy data program. The Annual Manufacturing Energy Consumption Survey collects information on energy consumption and expenditures from establishments in the manufacturing sector.

DATES: EIA must receive all comments on this proposed information collection no later than April 10, 2026. If you anticipate any difficulties in submitting your comments by the deadline, contact the person listed in the ADDRESSES section of this notice as soon as possible.

ADDRESSES: You may submit comments, identified by OMB control number 1905-NEW, by email at EIA-FRNcomments@eia.gov. Include the OMB control number listed in the subject line of the message.

FOR FURTHER INFORMATION CONTACT: Samson Adeshiyan, EIA Clearance Officer, at (202) 586-7777 or by email at EIA-FRNcomments@eia.gov. The form and instructions are available on EIA's website at www.eia.gov/survey/.

SUPPLEMENTARY INFORMATION: This information collection request contains:

(1) OMB No.: 1905—New;

(2) Information Collection Request Title: Annual Manufacturing Energy Consumption Survey;

(3) Type of Request: New;

(4) Purpose: EIA has administered Form EIA-846, Manufacturing Energy Consumption Survey, as a quadrennial product since 1988. Given the rapidly evolving energy-intensive economic landscape, EIA is proposing to initiate a narrower but more frequent data collection, the Annual Manufacturing Energy Consumption Survey, Form EIA-847. This new form would supplement the quadrennial collection with a subset of data covering the intervening years. EIA could initiate collection under Form EIA-847 as early as 2026 for the 2025 reference year. EIA is not currently proposing any changes to Form EIA-846, which would continue to be administered in support of EIA's National Energy Modeling System (NEMS) industrial models. The purpose of Form EIA-847 would be to collect the minimal data required to update NEMS each year.

Form EIA-847 will be a self-administered sample survey of a subset of the manufacturing sector. Specifically, EIA proposes to limit this subset to sector codes 31-33 of the North American Industry Classification System (NAICS). The information from this survey will be used to produce aggregate statistics on the energy consumption of the manufacturing sector, including energy purchases, expenditures, transfers in and shipments out, onsite generation and both fuel and nonfuel use of five widely used energy sources. To maintain an updated NEMS each year, Form EIA-847 will also be used to update the historical industrial energy consumption benchmark.

Form EIA-847, consisting of approximately 60 questions, will have a significantly reduced response burden compared to Form EIA-846, which consists of more than 250 questions. To keep the response burden as low as possible, EIA proposes a reduced sample size and only collecting data through Centurion, an electronic-collection platform. This method will allow respondents to choose which questions are pertinent to a specific establishment and will improve data editing and processing times overall.

(5) Annual Estimated Number of Respondents: 4,500;

(6) Annual Estimated Number of Total Responses: 4,500;

(7) Annual Estimated Number of Burden Hours: 8,484;

(8) Annual Estimated Reporting and Recordkeeping Cost Burden: $805,895 (8,484 annual burden hours multiplied by $94.99 per burden hour). EIA estimates that respondents will have no additional costs associated with the survey, however a slight amount of burden hours may be necessary to conduct data follow-up questioning. The number of respondents affected by the follow-up questioning will be minimal and the associated burden hours are negligible.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

(Statutory Authority: 15 U.S.C. 772(b) and 42 U.S.C. 7101 et seq.)

Signed in Washington, DC, on February 5, 2026.
Samson A. Adeshiyan,
Director, Office of Statistical Methods and Research, U.S. Energy Information Administration.

[FR Doc. 2026-02536 Filed 2-6-26; 8:45 am]

BILLING CODE 6450-01-P